DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2007 Census Bilingual Form Study.

Form Number(s):

Advance Letter Package/Reminder Card

DE-5(L)—Advance Letter (English).

DE-5(L)(E/S)—Advance Letter Bilingual English/Spanish.

DE-5—Outgoing Envelope for Advance Letters.

DE-9—Reminder Postcard (English).

DE-9(L)(E/S)—Reminder Letter Bilingual English/Spanish.

Questionnaires

DE-1—Mailback INITIAL Mailing (Also used for Replacement).

DE-1(E/S)—Bilingual English/Spanish (Start Here Cover/7&8person panels).

DE-2(E/S)— Bilingual English/Spanish (Directors Letter Cover).

Letters

DE-16(L)— Cover Letter—INITIAL Mailing.

DE-16(L)(E/S)—Cover Letter Bilingual—INITIAL Mailing [DE-1(E/S)].

DE-17(L)—Cover Letter REPLACEMENT Mailing.

Envelopes

DE-6A—INITIAL Mailing Outgoing Envelope (English).

DE-8A—INITIAL Mailing Return Envelope.

DE-6C—REPLACEMENT Mailing Outgoing Envelope.

DE-6B—Bilingual/INITIAL Mailing Outgoing Envelope.

DE-8B—BilingualReturn Envelope.

Agency Approval Number: 0607-0915.

Type of Request: Regular submission.

Burden: 5,000 hours.

Number of Respondents: 30,000.

Average Hours Per Response: 10 minutes.

Needs and Uses: The Census Bureau tested a bilingual census form in the 2005 National Census Test (NCT). The bilingual questionnaire had a “swim lane” design that provided two response columns, one in English and one in Spanish, each containing the same questions and response categories. This form was mailed to a randomly selected set of 10,000 housing units across the United States.

The results from the 2005 NCT show that the bilingual form significantly increased the self response rate nationally (by 2.2 percentage points for paper response, and 1.1 percentage points for total response), and more specifically, in areas where there is a high concentration of non-White and Hispanic populations (Bouffard and Tancreto, 2006). Moreover, the bilingual form resulted in a higher proportion of response from Hispanic persons than the English-only form. However, item nonresponse rates for the bilingual form were higher for all household level items and Hispanic origin compared to the English-only form (Bouffard et al., 2006). There are many potential reasons for these item nonresponse discrepancies, including forms design, question wording, translation, and differences in the responding population.

The purpose of a follow-up test of the bilingual form is to discern if the item nonresponse issues can be resolved by improved form design and utilization of the questions that will be on the form in the 2008 Census Dress Rehearsal. Moreover, this test provides the opportunity to study the impact of the bilingual form in areas that contain a heavy concentration of Spanish-speaking people with limited English proficiency. Furthermore, this test provides the opportunity to verify the 2005 NCT finding of increased response to the bilingual census form.

Affected Public: Individuals or households.

Frequency: One time.

Respondent's Obligation: Mandatory.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: January 31, 2007.
Gwellnar Banks,
Management Analyst, Office of the Chief Information Officer.

[FR Doc. E7-1821 Filed 2-5-07; 8:45 am]

BILLING CODE 3510-07-P